DEPARTMENT OF HEALTH AND HUMAN SERVICES

National Institutes of Health

National Center for Advancing Translational Sciences; Notice of Meeting

Pursuant to section 10(d) of the Federal Advisory Committee Act, as amended, notice is hereby given of a meeting of the National Center for Advancing Translational Sciences Advisory Council.

The meeting will be open to the public as indicated below. The open session will be videocast and can be accessed from the NIH Videocasting and Podcasting website (http://videocast.nih.gov). Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Advancing Translational Sciences Advisory Council.

Date: June 10-11, 2021.

Closed: June 10, 2021, 11:00 a.m. to 12:30 p.m.

Agenda: To review and evaluate grant applications.

Place: National Center for Advancing Translational Sciences, National Institutes of Health, One Democracy Plaza, 6701 Democracy Boulevard, Room 987/987, Bethesda, MD 20892 (Virtual Meeting).

Open: June 10, 2021, 1:00 p.m. to 4:00 p.m.

Agenda: Report from the Institute Director and other staff.

Place: National Center for Advancing Translational Sciences, National Institutes of Health, One Democracy Plaza, 6701 Democracy Boulevard, Room 987/987, Bethesda, MD 20892 (Virtual Meeting).

Open: June 11, 2021, 1:00 p.m. to 5:00 p.m.

Agenda: To view and discuss Clearance of Concepts.

Place: National Center for Advancing Translational Sciences, National Institutes of Health, One Democracy Plaza, 6701 Democracy Boulevard, Room 987/987, Bethesda, MD 20892 (Virtual Meeting).

Contact Person: Anna L. Ramsey-Ewing, Ph.D., Executive Secretary, National Center for Advancing Translational Sciences, National Institutes of Health, One Democracy Plaza, 6701 Democracy Boulevard, Room 1072, Bethesda, MD 20892, 301-435-0809, anna.ramseyewing@nih.gov.

Attendees and interested parties may submit questions and comments through written Q&A during the meeting, and for 15 days after the meeting, to NCATSCouncilInput@mail.nih.gov.

Any interested person may file written comments with the committee by forwarding the statement to the Contact Person listed on this notice no later than 15 days after the meeting. The statement should include the name, address, telephone number and when applicable, the business or professional affiliation of the interested person.

(Catalogue of Federal Domestic Assistance Program Nos. 93.859, Pharmacology, Physiology, and Biological Chemistry Research; 93.350, B—Cooperative Agreements; 93.859, Biomedical Research and Research Training, National Institutes of Health, HHS)

Dated: May 7, 2021.
David W. Freeman,
Program Analyst, Office of Federal Advisory Committee Policy.

[FR Doc. 2021-10021 Filed 5-11-21; 8:45 am]

BILLING CODE 4140-01-P